NATIONAL FOUNDATION ON THE ARTS AND THE HUMANITIES

Meetings of Humanities Panel

AGENCY: National Endowment for the Humanities.

ACTION: Notice of meetings.

SUMMARY: Pursuant to section 10(a)(2) of the Federal Advisory Committee Act (5 U.S.C. App.), notice is hereby given that seventeen meetings of the Humanities Panel will be held during October, 2013 as follows. The purpose of the meetings is for panel review, discussion, evaluation, and recommendation of applications for financial assistance under the National Foundation on the Arts and Humanities Act of 1965 (20 U.S.C. 951-960, as amended).

DATES: See SUPPLEMENTARY INFORMATION section for meeting dates.

ADDRESSES: The meetings will be held at the Old Post Office Building, 1100 Pennsylvania Ave. NW., Washington, DC 20506. See SUPPLEMENTARY INFORMATION section for meeting room numbers.

FOR FURTHER INFORMATION CONTACT: Lisette Voyatzis, Committee Management Officer, 1100 Pennsylvania Ave. NW., Room 529, Washington, DC 20506, or call (202) 606-8322. Hearing-impaired individuals are advised that information on this matter may be obtained by contacting the National Endowment for the Humanities' TDD terminal at (202) 606-8282.

SUPPLEMENTARY INFORMATION:

Meetings

1. Date: October 03, 2013

Time: 8:30 a.m. to 5:00 p.m.

Room: 415

This meeting will discuss applications on the subjects of the History of Science, Technology and Medicine for the Humanities Collections and Reference Resources grant program, submitted to the Division of Preservation and Access.

2. Date: October 07, 2013

Time: 8:30 a.m. to 5:00 p.m.

Room: 315

This meeting will discuss applications for the Bridging Cultures at Community Colleges grant program, submitted to the Division of Education Programs.

3. Date: October 08, 2013

Time: 8:30 a.m. to 5:00 p.m.

Room: 315

This meeting will discuss applications for the Bridging Cultures at Community Colleges grant program, submitted to the Division of Education Programs.

4. Date: October 08, 2013

Time: 8:30 a.m. to 5:00 p.m.

Room: 415

This meeting will discuss applications on the subject of World Studies for the Humanities Collections and Reference Resources grant program, submitted to the Division of Preservation and Access.

5. Date: October 10, 2013

Time: 8:30 a.m. to 5:00 p.m.

Room: 415

This meeting will discuss applications on the subjects of New World Archaeology and Culture for the Humanities Collections and Reference Resources grant program, submitted to the Division of Preservation and Access.

6. Date: October 17, 2013

Time: 8:30 a.m. to 5:00 p.m.

Room: 415

This meeting will discuss applications on the subjects of U.S. History and Culture for the Humanities Collections and Reference Resources grant program, submitted to the Division of Preservation and Access.

7. Date: October 17, 2013

Time: 8:30 a.m. to 5:00 p.m.

Room: 421

This meeting will discuss applications on the subject of American Studies for America's Media Makers: Production Grants, submitted to the Division of Public Programs.

8. Date: October 21, 2013

Time: 8:30 a.m. to 5:00 p.m.

Room: 421

This meeting will discuss applications on the subject of U.S. History for America's Historical & Cultural Organizations: Implementation Grants, submitted to the Division of Public Programs.

9. Date: October 22, 2013

Time: 8:30 a.m. to 5:00 p.m.

Room: 421

This meeting will discuss applications on the subject of U.S. History for America's Media Makers: Production Grants, submitted to the Division of Public Programs.

10. Date: October 22, 2013

Time: 8:30 a.m. to 5:00 p.m.

Room: 415

This meeting will discuss applications on the subject of Literature for the Humanities Collections and Reference Resources grant program, submitted to the Division of Preservation and Access.

11. Date: October 24, 2013

Time: 8:30 a.m. to 5:00 p.m.

Room: 421

This meeting will discuss applications on the subject of Art History for America's Historical & Cultural Organizations: Implementation Grants, submitted to the Division of Public Programs.

12. Date: October 28, 2013

Time: 8:30 a.m. to 5:00 p.m.

Room: 421

This meeting will discuss applications on International subjects for America's Media Makers: Production Grants, submitted to the Division of Public Programs.

13. Date: October 29, 2013.

Time: 8:30 a.m. to 5:00 p.m.

Room: 421.

This meeting will discuss applications on the subject of U.S. History for America's Media Makers: Production Grants, submitted to the Division of Public Programs.

14. Date: October 29, 2013.

Time: 8:30 a.m. to 5:00 p.m.

Room: 415.

This meeting will discuss applications on the subject of World Studies for the Humanities Collections and Reference Resources grant program, submitted to the Division of Preservation and Access.

15. Date: October 30, 2013.

Time: 8:30 a.m. to 5:00 p.m.

Room: 415.

This meeting will discuss applications on the subject of Art History for the Humanities Collections and Reference Resources grant program, submitted to the Division of Preservation and Access.

16. Date: October 30, 2013.

Time: 8:30 a.m. to 5:00 p.m.

Room: 315.

This meeting will discuss applications for Fellowship Programs at Independent Research Institutions, submitted to the Division of Research Programs.

17. Date: October 31, 2013.

Time: 8:30 a.m. to 5:00 p.m.

Room: 421.

This meeting will discuss applications on the subject of Historic Sites for America's Historical & Cultural Organizations: Implementation Grants, submitted to the Division of Public Programs.

Because these meetings will include review of personal and/or proprietary financial and commercial information given in confidence to the agency by grant applicants, the meetings will be closed to the public pursuant to sections 552b(c)(4) and 552b(c)(6) of Title 5 U.S.C., as amended. I have made this determination pursuant to the authority granted me by the Chairman's Delegation of Authority to Close Advisory Committee Meetings dated July 19, 1993.

Dated: September 10, 2013.
Lisette Voyatzis,
Committee Management Officer.

[FR Doc. 2013-22448 Filed 9-13-13; 8:45 am]

BILLING CODE 7536-01-P